DEPARTMENT OF EDUCATION

[CFDA No: 84.353]

Office of Vocational and Adult Education, Tech-Prep Demonstration Program (TPDP); Notice Inviting Applications for New Awards in Fiscal Year (FY) 2003

Purpose of Program: The Tech-Prep Demonstration Program (TPDP) provides grants to enable consortia described in section 204(a) of the Carl D. Perkins Vocational and Technical Education Act of 1998 (Perkins III) to carry out tech-prep education projects authorized by section 207 of Perkins III that involve the location of a secondary school on the site of a community college, a business as a member of the consortium, and the voluntary participation of secondary school students. Following an initial recruitment period, funded projects would enroll a new student cohort in each year of the project, in addition to continuing support for each previous TPDP student cohort.

Eligible Applicants: To be eligible for funding under the TPDP, a consortium must include at least one member in each of the following three categories:

(1) A local educational agency, an intermediate educational agency, an area vocational and technical education school serving secondary school students, or a secondary school funded by the Bureau of Indian Affairs;

(2)(a) A nonprofit institution of higher education that offers a two-year associate degree, two-year certificate, or two-year postsecondary apprenticeship program, or (b) a proprietary institution of higher education that offers a two-year associate degree program; and

(3) A business. Under the provisions of section 204(a)(1) of Perkins III, to be eligible for consortium membership both nonprofit and proprietary institutions of higher education must be qualified as institutions of higher education pursuant to section 102 of the Higher Education Act of 1965 (HEA), including institutions receiving assistance under the Tribally Controlled College or University Assistance Act of 1978 (25 U.S.C. 1801 et seq.) and tribally controlled postsecondary vocational and technical institutions.

In addition, nonprofit institutions of higher education are eligible only if they are not prohibited from receiving assistance under HEA, title IV, part B (20 U.S.C. 1071 et seq.), pursuant to the provisions of HEA section 435(a)(3) (20 U.S.C. 1083(a)). Proprietary institutions of higher education are eligible only if they are not subject to a default management plan required by the Secretary.

Applicants must submit a signed consortium agreement, to provide evidence that each of the required categories of membership has been satisfied. Under the provisions of section 204(a)(2), consortia also may include one or more: (1) institutions of higher education that award baccalaureate degrees; (2) employer organizations; or (3) labor organizations.

Note: Eligible consortia seeking to apply for funds should read and follow the regulations in 34 CFR 75.127-75.129, which apply to group applications.

Applications Available: May 12, 2003.

Deadline for Transmittal of Applications: June 26, 2003.

Deadline for Intergovernmental Review: August 25, 2003.

Estimated Available Funds: $9,968,000.

Estimated Range of Awards: $600,000 to $700,000 for the 60-month project period.

Estimated Average Size of Awards: $650,000.

Estimated Number of Awards: 14.

Note: The Department is not bound by any estimates in this Notice.

Project Period: 60 months. Applicants under this competition are required to provide detailed budget information for each year of the proposed project and for the total grant. The Department will negotiate funding levels for each 12-month period of the grant at the time of the award.

Note: The Secretary has concluded that entire, multi-year projects funded by five-year awards will be necessary for TPDP grantees to fully meet the statutory purposes of section 207 and the requirements of this notice. By definition, tech-prep programs combine at least two years of secondary education with a minimum of two years of postsecondary education in a nonduplicative, sequential course of study, and result in the attainment of a postsecondary degree or certificate. As outlined in this notice, five-year funding will: (a) Allow funded projects to engage in a lengthy recruitment effort and meet their enrollment goals; (b) enable the first cohort of students to complete the full four years of the tech-prep program and attain the necessary postsecondary degree or certificate; and (c) enable subsequent cohorts of students to complete a significant portion of the tech-prep program, thus increasing the likelihood that they will persist in their efforts to attain the necessary postsecondary degree or certificate. In addition, by enabling funded projects to conduct the full four-year tech-prep program, five-year funding will allow grantees and the Department to evaluate the effectiveness of the funded programs more thoroughly.

Applicable Regulations: (a) The Education Department General Administrative Regulations (EDGAR) in 34 CFR parts 74, 75, 77, 80, 81, 82, 85, 86, 97, 98, and 99; and (b) the regulations in the Notice of Final Requirements, Priorities, and Selection Criteria published elsewhere in this issue of the Federal Register.

Priorities: This competition gives competitive priority to applicants that meet the conditions outlined in the Notice of Final Requirements, Priorities, and Selection Criteria for this program, which is published elsewhere in this issue of the Federal Register.

Instructions for Transmittal of Applications:

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project for electronic submission of applications to include additional formula grant programs and additional discretionary grant competitions. The TPDP (CFDA #84.353) is one of the programs included in the pilot project. If you are an applicant under the TPDP, you may submit your application to us in either electronic or paper format.

The pilot project involves the use of the Electronic Grant Application System (e-Application) portion of the Grant Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Assistance (ED 424) to the Application Control Center after following these steps:

(1) Print ED 424 from the e-Application system.

(2) The institution's Authorizing Representative must sign this form.

(3) Place the PR/Award number in the upper right hand corner of the hard copy signature page of the ED 424.

(4) Fax the signed ED 424 to the Application Control Center at (202) 260-1349.

• We may request that you give us original signatures on all other forms at a later date.

• Closing Date Extension in Case of System Unavailability: If you elect to participate in the e-Application pilot for the TPDP and you are prevented from submitting your application on the closing date because the e-Application system is unavailable, we will grant you an extension of one business day in order to transmit your application electronically, by mail, or by hand delivery. For us to grant this extension—

(1) You must be a registered user of e-Application, and have initiated an e-Application for this competition; and

(2)(a) The e-Application system must be unavailable for 60 minutes or more between the hours of 8:30 and 3:30 p.m., Washington, DC time, on the deadline date; or (b) The e-Application system must be unavailable for any period of time during the last hour of operation (that is, for any period of time between 3:30 and 4:30 p.m., Washington, DC time) on the deadline date.

The Department must acknowledge and confirm these periods of unavailability before granting you an extension. To request this extension you must contact either (1) the person listed elsewhere in this notice under FOR FURTHER INFORMATION CONTACT or (2) the e-GRANTS help desk at 1-888-336-8930.

You may access the electronic grant application for the TPDP at: http://e-grants.ed.gov.

We have included additional information about the e-Application pilot project (see Parity Guidelines between Paper and Electronic Applications) in the TPDP application package.

For Further Information Contact: For information on the program and to download a TPDP application package, you may access the Department's Web site at: http://www.ed.gov/GrantApps/.

If you need further assistance and need to speak with someone regarding TPDP, or to request a paper application package, you may contact Karen Stratman Clark, by phone at (202) 205-3779, or by mail at 330 C Street, SW., Room 5523, Washington, DC 20202. Requests for applications may also be sent by fax to (202) 401-4079.

Individuals who use a telecommunications device for the deaf (TDD) may call the Federal Information Relay Service (FIRS) at 1-800-877-8339. Individuals with disabilities may obtain this notice in an alternate format (e.g., Braille, large print, audiotape, or computer diskette) on request to the contact person listed in the preceding paragraph.

Electronic Access to This Document

You may view this document, as well as all other Department of Education documents published in the Federal Register, in text or portable document format (PDF) on the Internet at the following site: http://www.ed.gov/legislation/FedRegister.

To use PDF you must have the Adobe Acrobat Reader, which is available free at this site. If you have questions about using PDF, call the U.S. Government Printing Office (GPO) toll free at 1-888-293-6498, or in the Washington, DC area at (202) 512-1530.

Note: The official version of this document is the document published in the Federal Register. Free Internet access to the official edition of the Federal Register and the Code of Federal Regulations is available on GPO Access at: http://www.access.gpo.gov/nara/index.html.

Program Authority: 20 U.S.C. 2376.

Dated: May 7, 2003.
Carol D'Amico,
Assistant Secretary for Vocational and Adult Education.

[FR Doc. 03-11899 Filed 5-9-03; 8:45 am]

BILLING CODE 4000-01-P